SMALL BUSINESS ADMINISTRATION

[Declaration of Disaster #3639]

State of Minnesota

As a result of the President's major disaster declaration on October 7, 2004, I find that Dodge, Faribault, Freeborn, Mower, and Steele Counties in the State of Minnesota constitute a disaster area due to damages caused by severe storms and flooding occurring on September 14, 2004, and continuing. Applications for loans for physical damage as a result of this disaster may be filed until the close of business on December 6, 2004 and for economic injury until the close of business on July 7, 2005 at the address listed below or other locally announced locations: Small Business Administration, Disaster Area 2 Office, One Baltimore Place, Suite 300, Atlanta, GA 30308.

In addition, applications for economic injury loans from small businesses located in the following contiguous counties may be filed until the specified date at the above location: Blue Earth, Fillmore, Goodhue, Martin, Olmstead, Rice, and Waseca in the State of Minnesota; and Howard, Kossuth, Mitchell, Winnebago, and Worth Counties in the State of Iowa.

Dodge, Faribault, Freeborn, Mower, and Steele Counties in the State of Minnesota are also eligible under Public Assistance and our disaster loan program is available for private non-profit organizations that provide essential services of a governmental nature in those counties.

The interest rates are:

| Percent
For Physical Damage:
Homeowners with credit available elsewhere, | 6.375
Homeowners without credit available elsewhere, | 3.187
Businesses with credit available elsewhere, | 5.800
Businesses and non-profit organizations without credit available elsewhere, | 2.900
Others (including non-profit organizations) with credit available elsewhere, | 4.875
For Economic Injury:
Businesses and small agricultural cooperatives without credit available elsewhere, | 2.900

The number assigned to this disaster for physical damage is 363906. For economic injury the number is 9AE800 for Minnesota; and 9AE900 for Iowa. The Public Assistance number assigned to Minnesota is P06606.

(Catalog of Federal Domestic Assistance Program Nos. 59002 and 59008)
Dated: October 12, 2004.
Herbert L. Mitchell,
Associate Administrator for Disaster Assistance.

[FR Doc. 04-23275 Filed 10-15-04; 8:45 am]

BILLING CODE 8025-01-P